DEPARTMENT OF HOMELAND SECURITY

[DHS-2006-0042]

Science and Technology Directorate; Submission for Review; Reinstatement of a Previously Approved Information Collection Request for Support of SAFETY Act Application Kit 1640-0001

AGENCY: Science and Technology Directorate, DHS.

ACTION: 30-day notice of information collections under review: the application forms and instructions (hereinafter “Applications Kit”) designed to assist persons applying for coverage under the SAFTY Act of 2002.

SUMMARY: The Department of Homeland Security (DHS) has submitted the following information collection request (ICR) to the Office of Management and Budget (OMB) for review and clearance in accordance with the Paperwork Reduction Act of 1995: 1640-0001. This notice and request for comments is required by the Paperwork Reduction Act of 1995 (Pub. L. 104-13, 44 U.S.C. chapter 35).

DATES: Comments are encouraged and will be accepted until November 29, 2006. This process is conduced in accordance with 5 CFR 1320.10.

ADDRESSES: Interested persons are invited to submit written comments on the proposed information collection to the Office of Information and Regulatory Affairs, Office of Management and Budget. Comments should be addressed to Nathan Lesser, Desk Officer for the Department of Homeland Security/Science and Technology Directorate, and sent via electronic mail to oira_submission@omb.eop.gov or faxed to (202) 395-6974.

FOR FURTHER INFORMATION CONTACT: Ken Rogers, (202) 254-6185.

SUPPLEMENTARY INFORMATION: On June 8, 2006, DHS published a final rule interpreting and implementing the SAFETY Act of 2002 (see 71 FR 33147). In connection with the issuance of this final rule, DHS consolidated the forms and instructions designed to assist persons applying for SAFETY Act coverage. The forms and instructions were consolidated into one Application Kit.

This ICR was previously published in the Federal Register on August 17, 2006, at 71 FR 47507 for a 60-day public comment period ending October 16, 2006. No comments were received by DHS on this ICR during the 60-day comment period. The purpose of this notice is to allow an additional 30 days for public comments. This notice and request for comments is required by the Paperwork Reduction Act of 1995 (Pub. L. 104-13, 44 U.S.C. chapter 35).

DHS invites the general public to comment on the proposed reinstatement of OMB Information Collection 1640-0001 (Application Kit), as described below.

Interested parties can obtain copies of the Application Kit by going to the Office of Safety Act Web site and downloading copies thereof. The address is: http://www.safetyact.gov. The Application Kit and applicable supporting documentation may also be obtained by calling or writing the point of contact listed above.

Please note that the Application Kit includes various forms for different types of SAFETY Act applications. As explained herein, these separate forms are intended to be flexible and permit the Applicants to provide relevant information to their specific applications without undue bureaucratic burden. The Department is committed to improving its SAFETY Act processes and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection:

(1) Type of Information Collection: Reinstatement of a previously approved collection.

(2) Title of the Form/Collection: SAFETY Act Application Kit.

(3) Agency Form Number, if any, and the applicable component of the Department of Homeland Security sponsoring the collection: DHS\S&T-I SAFETY-0001 through 0010.

(4) Affected public who will be asked or required to respond, as well as a brief abstract: Business or other for-profit and not-for profit institutions; the data collected through the Application Kit will facilitate efforts of responding persons to develop vital anti-terrorist technology by obtaining coverage under the SAFETY Act.

(5) An estimate of the total number of respondents and the amount of time estimated for an average respondent to respond: 2500 respondents with an average of slightly more than 48.5 hours per respondent.

(6) An estimate of the total public burden (in hours) associated with the collection: 121,400 burden hours.

Dated: October 24, 2006.
Deborah Diaz,
Chief Information Officer, Science and Technology Directorate.

[FR Doc. E6-18195 Filed 10-27-06; 8:45 am]

BILLING CODE 4410-10-P